DEPARTMENT OF THE INTERIOR

National Park Service

[2280-665]

National Register of Historic Places; Notification of Pending Nominations and Related Actions

Nominations for the following properties being considered for listing or related actions in the National Register were received by the National Park Service before February 5, 2011. Pursuant to sections 60.13 or 60.15 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington DC 20005; or by fax, 202-371-6447. Written or faxed comments should be submitted by March 24, 2011.

Before including your address, phone number, e-mail address, or other personal identifying information in your comment, you should be aware that your entire comment—including your personal identifying information—may be made publicly available at any time. While you can ask us in your comment to withhold your personal identifying information from public review, we cannot guarantee that we will be able to do so.

Paul Loether,
Chief, National Register of Historic Places/National Historic Landmarks Program.

CALIFORNIA

San Bernardino County

Pacific Electric Etiwanda Depot, 7092 Etiwanda Ave, Rancho Cucamonga, 11000119

San Francisco County

South San Francisco Opera House, 4701-4705 Third St and 1601 Newcomb Ave, San Francisco, 11000117

COLORADO

San Juan County

Animas Forks, (Mining Industry in Colorado, MPS) Address Restricted, Silverton, 11000095

Minnie Gulch Cabins, (Mining Industry in Colorado, MPS) Address Restricted, Silverton, 11000096

Placer Gulch Boarding House, (Mining Industry in Colorado, MPS) Address Restricted, San Juan, 11000094

GEORGIA

Fulton County

Commercial Row 990 Peachtree St., NW, Atlanta, 11000090

INDIANA

Allen County

Brookview—Irvington Park Historic District, Roughly bounded by Norfolk Ave to the N; Lima Rd, Spy Run Ave Extended, and N Clinton St to the E; Jacobs St to the S, Fort Wayne, 11000121

Elkhart County

Dierdorff Farmstead, 2055 Dierdorff Rd, Goshen, 11000122

Johnson County

South Walnut Street Historic District, Roughly both sides of S Walnut St from Thompson St S to 507 and 514 S Walnut. Also including the 100 block of W Campbell, Edinburgh, 11000126

Toner Historic District, E Main Cross from the CSX tracks to White Oak Ln, Edinburgh, 11000127

Lake County

Brannon, James, House, 260 Burnham St, Lowell, 11000120

Hohman Avenue Commercial Historic District, Approx. 3 blocks lining Hohman between Clinton and Rimbach Sts, Hammond, 11000118

Southmoor Apartment Hotel, 5946 Hohman Ave, Hammond, 11000125

Porter County

Sigler, Eli, House, 104 W Church St, Hebron, 11000124

Randolph County

Winchester Residential Historic District, Roughly, both sides of Washington and Franklin Sts from Main St to Greenville Ave and both sides of Meridian and Main St, Winchester, 11000123

IOWA

Dallas County

Saint Patrick's Catholic Church and Rectory, 1312 Third St, Perry, 11000138

Winneshiek County

Calmar Passenger Depot, (Advent & Development of Railroads in Iowa MPS) 201 N Maryville St, Calmar, 11000137

MISSISSIPPI

Harrison County

Gulfport Army Air Field Hangar, Airport Rd, Gulfport, 11000111

Lawrence County

River Road, Between HWY 43 and Conerly Rd, Oak Vale, 11000108

Lee County

Spain House, 553 W Main St, Tupelo, 11000109

Monroe County

Sadler House, 400 Marshall St, Aberdeen, 11000113

Tallahatchie County

Black Bayou Bridge, 2nd St, Glendora, 11000112

Winston County

Baptist Church of Christ at Sardis, Sardis Rd, Louisville, 11000110

MONTANA

Carbon County

Red Lodge Communal Mausoleum, Montana HWY 78, Red Lodge, 11000114

Fergus County

Nelson, Gus, Homestead, Missouri River, River Mi #129.4-131.1 W side of river, Cow Island Vicinity, 11000093

NEBRASKA

Cass County

Greer, James and Margaret, Farmstead, 6135 202nd St, Alvo, 11000103

Knox County

St. Rose of Lima Catholic Church and School Complex, 1302-1316 S 5th St, Crofton, 11000106

Morrill County

Schuetz Log Cabin, HC 82 Box 103, Dalton, 11000105

Otoe County

Camp Creek Cemetery and Chapel, NE Corner of County Rd P and S Rd 70th, Nebraska City, 11000102

Phelps County

Brenstrom Farmstead, 10417 Westside Rd, Overton, 11000104

NEW YORK

Westchester County

Forster, Marmaduke, House, 413-415 Bedford Rd, Pleasantville, 11000139

PENNSYLVANIA

Chester County

Glenmoore Historic District, At the jct of Fairview and Creek Rds, roughly bounded by Park Ln, Indiantown Rd, and Howson Ln, Wallace, 11000107

TENNESSEE

Coffee County

Leming, John H., House, 414 E Main St, Manchester, 11000092

Johnson County

Maymead Farm, 1995 Roan Creek Rd, Mountain City, 11000100

Sumner County

Douglass—Clark House, Long Hollow Pike at Lower Station Camp Creek Rd, Gallatin, 11000098

Washington County

Broyles, Adam Alexander, House, 3118 Old SR 34, Limestone, 11000099

TEXAS

Bexar County

Lerma's Nite Club, 1602-1612 N Zarzamora, San Antonio, 11000135

Light House, 300 Argyle Ave, Alamo Heights, 11000131

El Paso County

Mills Building, (Commercial Structures of El Paso by Henry C. Trost TR) 303 N Oregon St, El Paso, 11000130

Glasscock County

Glasscock County Courthouse and Jail, 117 E Currie St, Garden City, 11000129

Houston County

First United Methodist Church, 701 E Goliad Ave, Crockett, 11000133

Sutton County

deBerry Ranch, Private Rd 1105, approximately 1.5 mi e of CR 108, Sonora, 11000134

Tarrant County

Henderson Street Bridge, (Historic Bridges of Texas MPS) Henderson Street at the Clear Fork of the Trinity River, Fort Worth, 11000128

Texas Garden Clubs, Inc., Headquarters, 3111 Old Garden Rd, Fort Worth, 11000136

Travis County

Delwood Duplex Historic District, (Historic Residential Suburbs in the United States, 1830-1960 MPS) Roughly bounded between Maplewood Ave and Kirkwood, Ashwood, and Wrightwood Rds, Austin, 11000132

VERMONT

Windham County

Middletown Rural Historic District, Middletown Rd, Avery Park Dr, Middletown Cemetery Rd, Woodchuck Hill Rd, Rte 121, Grafton, 11000101

WISCONSIN

Milwaukee County

Juneau Highlands Residential Historic District, 6600-6734 W Grant St, 2109-2180 S Livingston Terrace, 6608-6656 W Revere Place, and 6627-29 W Revere Pl, West Allis, 11000116

Oneida County

Mayer, George P., Boathouse, 7708 Braeger Rd, Town of Three Lakes, 11000115

WYOMING

Albany County

Durlacher House, 501 S 5th St, Laramie, 11000097

Other Actions:

Request for REMOVAL has been made for the following resources:

INDIANA

Marion County

Chadwick, 1005 N Pennsylvania St, Indianapolis, 83000061

TENNESSEE

Shelby County

Pippin Roller Coaster, Bounded by E Pkwy, Central and Southern Aves, and Early Maxwell Blvd, Memphis, 07001166

In the interest of preservation the comment period for the following resource has been shortened to (3) three days.

VIRGINIA

Appomattox County

Holiday Lake 4-H Educational Center, 1267 4-H Camp Rd, Rte 2, Appomattox, 11000091

[FR Doc. 2011-5400 Filed 3-8-11; 8:45 am]

BILLING CODE 4312-51-P